DEPARTMENT OF HOUSING AND URBAN DEVELOPMENT

[Docket No. FR-4579-FA-20]

Announcement of Funding Awards for Fiscal Year 2002; Research and Technology Unsolicited Proposals

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2002 Research and Technology unsolicited proposals. The purpose of this document is to announce the names and addresses of the organizations that have been awarded cooperative agreements based on their submission of unsolicited proposals for research funding.

FOR FURTHER INFORMATION CONTACT: Patrick J. Tewey, Director, Budget, Contracts and Program Control Division, Office of Policy Development and Research, Room 8230, 451 7th Street, SW., Washington, DC 20410, telephone (202) 708-1796, extension 4098. To provide service for persons who are hearing-or-speech-impaired, this number may be reached via TTY by dialing the Federal Information Relay Service on 1-800-877-TTY, 1-800-877-8339, or 202-708-1455. (Telephone number, other than “800” TTY numbers are not toll free.)

SUPPLEMENTARY INFORMATION: The VA/HUD and Independent Agencies Appropriation Act of 2002 (Pub. L. 107-73) provided $50,250,000 in Research and Technology funds for contracts, grants and necessary expenses of programs and studies relating to housing and urban problems. The majority of HUD's Research and Technology funding is awarded through competitive solicitations. The unsolicited proposal is another method used by HUD to fund research and development. An unsolicited proposal is submitted to support an idea, method or approach by individuals and organizations solely on the proposer's initiative. Funding of unsolicted proposals is considered a noncompetitive action. An unsolicited proposal demonstrates a unique and innovative concept or a unique capability of the submitter, offers a concept or service not otherwise available to the Government and does not resemble the substance of a pending competitive action. All unsolicited proposals and the resulting award of cooperative agreements include substantial cost sharing on the part of the submitter/awardee.

The Catalog of Federal Domestic Assistance for this program is 14.506.

In accordance with section 102(a)(4)(C) of the Department of Housing and Urban Development Reform Act of 1989 (103 STAT. 1987, 42 U.S.C. 3545), the Department is publishing details concerning the recipients of funding awards, as follows:

List of FY 2002 Awardees for Cooperatives Agreements

Ameregis, Myron Willard Orfield, Jr., 1313 5th Street, SE, Suite 108, Minneapolis, MN 55414, Grant # H-21393CA, “Local Fiscal Capacity in the U.S. Metropolitan Areas”, Total Amount $100,000, Date Awarded 09/30/02

American Association for Higher Education, Yolanda T, Moses, One Dupont Circle, Suite 360, Washington, DC 20036-1110, Grant # H-21358CA, “Developing Socially and Civically Engaged Architects”, Total Amount $18,938, Date Awarded 07/25/02

The Brookings Institution, Jay T. Wang, CPA, 1775 Massachusetts Avenue, NW, Washington, DC 20036-2188, Grant # H-21350CA, “Conduct a Policy Forum on Affordable Housing and Growth Management”, Total Amount $97,500, Date Awarded 08/15/02

Gabriel, Dr. Stuart A., 801 Sassafras Way, Oak Park, CA 91377, Grant 21360CA, The Impact of Termination Risks and Borrower Heterogeneity on the Pricing of FHA-Insured Mortgages”, Total Amount $19,000, Date Awarded 09/24/02

Manpower Demonstration Research Corporation, Jesus M. Amadeo,16 East 34th Street, New York, NY 10016-4326, Grant # H-21042CA, “Jobs-Plus Community Revitalization Initiative for Public Housing Families”, Total Amount $700,000, Date Awarded 04/11/02.

McAuley Institute, JoAnne Kane, 8300 Colesville Road, Silver Spring, MD 20910, Grant # H-21375CA, “Success Measures Guidebook Revision”, Total Amount $160,000, Date Awarded 9/27/02

NAHB Research Center, Liza K. Bowles, 400 Prince Georges Boulevard, Upper Marlboro, MD 20774-8731, Grant # H-21355CA, “Tool Base Services: The Portal to Technical Information for the Home Building Industry”, Total Amount $999,600, Date Awarded 07/19/02

National Trust for Historic Preservation, Richard Moe, 1785 Massachusetts Avenue, NW, Washington, DC 20036-2117, Grant 21357CA, “Best Practice Solutions to the Barriers to Affordable Housing Rehabilitation”, Total Amount $183,702, Date Awarded 07/20/02

Portland Cement Association, George B. Barney, 5420 Old Orchard Road, Skokie, IL, 60077-1083, Grant # H-21356CA, “HVAC Sizing Methodology Manual For Insulated Concrete Homes”, Total Amount $100,000, Date Awarded 09/23/02

University Consortium for Geographic Information Science, Susan McDonald Jampoler, 43351 Spinks Ferry Road, Leesburg, VA 20176-5631, Grant H-21394CA, Global Urban Quality: Urban Indicators Using Geographic Information Science (GIS)”, Phase II, Total Amount $169,625, Date Awarded 09/30/02

University of Maryland at College Park, Antoinette Lawson, 3112 Lee Building, College Park, MD 20742-5141, Grant H-21361CA, “Feasibility Study of Land Market Monitoring” Total Amount $74,935, Date Awarded 09/27/02

Dated: February 21, 2003.
Alberto F. Treviño,
Assistant Secretary for Policy Development and Research.

[FR Doc. 03-4784 Filed 2-27-03; 8:45 am]

BILLING CODE 4210-62-P